DEPARTMENT OF AGRICULTURE

Farm Service Agency

Request for Extension of Currently Approved Information Collection; Power of Attorney

AGENCY: Farm Service Agency, USDA.

ACTION: Notice and Request for Comments.

SUMMARY: In accordance with the Paperwork Reduction Act of 1995, this notice announces the Farm Service Agency's (FSA) intention to request an extension for a currently approved information collection. This information is used to support the FSA, Commodity Credit Corporation (CCC) and Risk Management Agency (RMA) in conducting business and accepting signatures on documents from individual's acting on behalf of others.

DATES: Comments on this notice must be received on or before May 9, 2006.

FOR FURTHER INFORMATION CONTACT: Mike Sienkiewicz, Agricultural Program Specialist, USDA/FSA/PECD, Common Provisions Branch, at (202) 720-8959.

SUPPLEMENTARY INFORMATION: Title: Power of Attorney.

OMB Control Number: 0560-0190.

Expiration Date of Approval: November 30, 2006.

Type of Request: Request for extension of a currently approved information collection.

Abstract: Individuals or authorized representatives of entities wanting to appoint another to act as their attorney-in-fact in connection with certain FSA, CCC, and RMA programs and related actions must complete a FSA-211, Power of Attorney, form. The FSA-211 serves as evidence that the grantor has appointed another to act on their behalf for certain FSA, CCC, and RMA programs and related actions, giving the appointee legal authority to enter into binding agreements on the grantor's behalf. The FSA-211 also provides FSA, CCC and RMA a source to verify an individual's authority to sign and act for another in the event of errors or fraud that requires legal remedies. The information collected on the FSA-211 is limited to the grantor's name, signature and identification number, the grantee's name and address, and the applicable FSA, CCC and RMA programs.

Estimate of Respondent Burden: Public reporting burden for this collection of information is estimated to average .25 hours per response.

Respondents: Individuals or authorized representatives of entities, such as corporations, wanting to appoint an attorney-in-fact to act on their behalf.

Estimated Number of Respondents: 1,558,959 (519,653 annually over a 3 year period).

Estimated Number of Annual Responses per Respondent: Collection of the information is a one-time occurrence. The FSA-211 remains in full force and effect until written notice of revocation has been duly served upon USDA, the death of the grantor, or the incapacitation of the grantor.

Estimated Total Annual Burden on Respondent: Collection of the information is a one-time occurrence with an estimated reporting burden of .25 hours per response.

Proposed topics for comment include: (a) Whether the collection of information is necessary for the proper performance of the functions of the USDA service center; (b) the agency's estimate of burden; (c) methods to enhance the usefulness of the information collected; or (d) ways to minimize the burden of the collection of the information on those who respond. Comments must be sent to the Desk Officer for Agriculture, Office of Information and Regulatory Affairs, Office of Management and Budget, Washington, DC 20503 and to Mike Sienkiewicz, Agricultural Program Specialist, USDA-FSA-PECD, STOP 0517, 1400 Independence Avenue, SW., Washington, DC 20250; telephone (202) 720-8959; or FAX (202) 720-0051. Copies of the information collection may be obtained from Mr. Sienkiewicz at the above address.

All responses to this notice will be summarized and included in the request for OMB approval. All comments will also become a matter of public record.

Signed at Washington, DC, on March 2, 2006.
Teresa Lasseter,
Administrator, Farm Service Agency.

[FR Doc. E6-3405 Filed 3-9-06; 8:45 am]

BILLING CODE 3410-05-P